NATIONAL AERONAUTICS AND SPACE ADMINISTRATION

[Notice (10-033)]

NASA Advisory Council; Science Committee; Meeting

AGENCY: National Aeronautics and Space Administration.

ACTION: Notice of meeting.

SUMMARY: The National Aeronautics and Space Administration (NASA) announces a meeting of the Science Committee of the NASA Advisory Council (NAC). This Committee reports to the NAC. The Meeting will be held for the purpose of soliciting from the scientific community and other persons scientific and technical information relevant to program planning.

DATES: Tuesday, April 20, 8:30 a.m. to 5 p.m., and Wednesday, April 21, 2010, 8:30 a.m. to 3 p.m., EDT.

ADDRESSES: NASA Goddard Space Flight Center, Building 1, Room E100E, 8800 Greenbelt Road, Greenbelt, Maryland 20771.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. The agenda for the meeting includes the following topics:

—Science Mission Directorate Overview and Program Status

—Discussion of 2010 Science Plan

—Discussion of Subcommittees

—Discussion of Earth & Space Science Utilization of the International Space Station

—Discussion of Technology Programs

It is imperative that the meeting be held on these dates to accommodate the scheduling priorities of the key participants. Public attendees with U.S. citizenship must provide to NASA the following information: Full name; gender; date/place of birth; social security number, employer/affiliation information (name of institution, title/position, address, telephone, e-mail address); and the title/position of attendee at least 4 working days in advance of the meeting by contacting Marian Norris via e-mail at mnorris@nasa.gov or by telephone at (202) 358-4452. Public attendees that are Foreign Nationals from non-designated countries must provide to NASA the following information: Full name; gender; date/place of birth; citizenship; social security number, green card information (resident alien number, expiration date); visa information (number, type, expiration date); passport information (number, country of issue, expiration date); employer/affiliation information (name of institution, title/position, address, country of employer, telephone, e-mail address); and the title/position of attendee no less than 15 working days prior to the meeting by contacting Marian Norris via e-mail at mnorris@nasa.gov or by telephone at (202) 358-4452.

Public attendees will be required to sign a register and to comply with NASA security requirements, including the presentation of a valid State or Federal issued picture ID or passport, before receiving an access badge.

March 18, 2010.
P. Diane Rausch,
Advisory Committee Management Officer, National Aeronautics and Space Administration.

[FR Doc. 2010-6591 Filed 3-24-10; 8:45 am]

BILLING CODE P